DEPARTMENT OF THE INTERIOR

Bureau of Land Management

[CO-921-06-5104-EL; COC 67514]

Notice of Availability of the Environmental Assessment and Public Hearing for Coal Lease Application COC 67514. Colorado

AGENCY: Bureau of Land Management, Interior.

ACTION: Notice of Availability of the Twenty Mile Coal Company Coal Lease By Application COC 67514 Environmental Assessment and Federal Coal Notice of Public Hearing, and Request for Environmental Assessment, Maximum Economic Recovery Report, and Fair Market Value Comments.

SUMMARY: Pursuant to 43 Code of Federal Regulations (CFR) 3425.4, the Bureau of Land Management (BLM), Colorado State Office, Lakewood, Colorado, hereby gives notice that an Environmental Assessment (EA) is available and a public hearing will be held to lease Federal coal. The EA analyzes and discloses direct, indirect, and cumulative environmental impacts of issuing a Federal coal lease competitively for 200.36 acres in Routt County, Colorado. The purpose of the public hearing is to solicit comments from the public on (1) The proposal to issue a Federal coal lease; (2) the proposed competitive lease sale; (3) the Fair Market Value (FMV) of the Federal coal; and (4) Maximum Economic Recovery (MER) of the Federal coal included in the Federal tract.

DATES: Written comments should be received no later than April 13, 2006. The public hearing will be held at 7 p.m., Thursday, March 30, 2006.

ADDRESSES: Written comments should be addressed to the Little Snake Field Office Manager, Little Snake Field Office, 455 Emerson Street, Craig, Colorado 81625 where copies of the EA are available for inspection or copies provided upon request. The public hearing will be held in the Routt County Commissioners Hearing Room, located in the Annex Building behind the Routt County Courthouse, at 136-6th St., Suite 206, Steamboat Springs, Colorado.

FOR FURTHER INFORMATION CONTACT: Field Office Manager, Little Snake Field Office at the address above, or by telephone at 970-826-5000.

SUPPLEMENTARY INFORMATION: On February 14, 2004 Twenty Mile Coal Company applied for a Federal coal lease. The Federal tract was assigned case number COC 67514. The following lands are contained in the LBA:

T. 5 N., R. 86 W., 6th P.M.

sec. 5, lot 4, SW¼NE¼, S½NW¼, and NW¼SE¼.

Containing approximately 200.36 acres in Routt County, Colorado.

The EA analyzes environmental impacts that could result from leasing Federal coal and several alternatives. The alternatives considered are the no action alternative, and the proposed alternative to lease the coal. In accordance with Federal coal management regulations 43 CFR 3422 and 3425, not less than 30 days prior to the publication of a notice of sale, the Secretary shall solicit public comments on FMV appraisal and MER. BLM hereby gives notice that a public hearing will be held on Thursday, March 30, 2006, at 7 p.m., at the Routt County Commissioners Hearing Room at the address given above. The coal resource to be offered is limited to coal recoverable by underground mining methods. One purpose of the hearing is to obtain public comments on the EA and on the following items:

(1) The method of mining to be employed to obtain maximum economic recovery of the coal,

(2) The impact that mining the coal in the proposed leasehold may have on the area, and

(3) The methods of determining the fair market value of the coal to be offered.

In addition, the public is invited to submit written comments concerning the MER and FMV of the coal resource. Public comments will be utilized in establishing FMV for the coal resource in the described lands. Comments should address specific factors related to fair market value including, but not limited to:

1. The quality and quantity of the coal resource.

2. The price that the mined coal would bring in the market place.

3. The cost of producing the coal.

4. The interest rate at which anticipated income streams would be discounted.

5. Depreciation and other accounting factors.

6. The mining method or methods which would achieve maximum economic recovery of the coal.

7. Documented information on the terms and conditions of recent and similar coal land transactions in the lease area, and

8. Any comparable sales data of similar coal lands in the lease area.

Written requests to testify orally at the March 30, 2006, public hearing should be received at the Little Snake Field Office prior to the close of business March 30, 2006. Those who indicate they wish to testify when they register at the hearing may have an opportunity if time is available.

As provided by 43 CFR 3422.1(a), proprietary data marked as confidential may be provided in response to this solicitation of public comments. Data so marked shall be treated in accordance with the laws and regulations governing the confidentiality of such information. A copy of the comments submitted by the public on FMV and MER, except those portions identified as proprietary and meeting exemptions stated in the Freedom of Information Act (FOIA), will be available for public inspection at the BLM office noted above. If you wish to withhold your name or address from public review or from disclosure under the FOIA, you must state this prominently at the beginning of your written comments. Such requests will be honored to the extent allowed by the FOIA. All submissions from organizations, businesses and individuals identifying themselves as representatives or officials of organizations or businesses will be available for public inspection in its entirety. Written comments on the EA, MER, and FMV should be sent to the Little Snake Field Office at the above address prior to the close of business on April 13, 2006, the end of the 30 day public comment period.

Substantive comments, whether written or oral, will receive equal consideration prior to any lease offering. A copy of the EA, the case file, and the comments submitted by the public, except those portions identified as proprietary by the commenter and meeting exemptions stated in the FOIA, will be available for public inspection after June 1, 2006, at the Colorado State Office, 2850 Youngfield, Lakewood, Colorado, 80215.

December 27, 2005.
Karen Zurek,
Solid Minerals Staff, Division of Energy, Lands and Minerals.

[FR Doc. E6-2387 Filed 2-17-06; 8:45 am]

BILLING CODE 3410-JB-P